ENVIRONMENTAL PROTECTION AGENCY

[ER-FRL-8987-6]

Environmental Impact Statements and Regulations; Availability of EPA Comments

Availability of EPA comments prepared pursuant to the Environmental Review Process (ERP), under section 309 of the Clean Air Act and Section 102(2)© of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090381, ERP No. D-IBR-K65382-CA, New Melones Lakes Area Resource Management Plan, Implementation, Tuolumne and Calaveras Counties, CA.

Summary: While EPA has no objections to the project as proposed, we requested additional information on impervious surfaces, mine-based pollution and working with Lower Stanislaus River stakeholders to address downstream water quality impairment, and funding. Rating LO.

EIS No. 20090403, ERP No. D-IBW-G29001-TX, Presidio Flood Control Project, Flood Control Improvements and Partial Levee Relocation, Presidio, TX.

Summary: EPA does not object to the proposed action. Rating LO.

EIS No. 20090405, ERP No. D-AFS-J65550-SD, Norbeck Wildlife Project, Proposing to Manage Vegetation to Benefit Game Animals and Bird, Black Hills National Forest, Custer and Pennington Counties, SD.

Summary: EPA has environmental concerns about this project's potential air quality impacts, and recommended additional information and analysis regarding potential air quality impacts and mitigation be included in the FEIS. Rating EC1.

EIS No. 20090408, ERP No. D-AFS-J65551-CO, Rio de los Pinos Vegetation Management Project, Proposes to Salvage Engelmann Spruce Trees that have been Killed by, or are Infested with, Spruce Beetle, Conejos Peak Ranger District, Rio Grande National Forest, Conejos, Rio Grande and Archuleta Counties, CO.

Summary: EPA does not object to the proposed project. Rating LO.

Final EISs

EIS No. 20090383, ERP No. F-BLM-K67058-NV, Bald Mountain Mine North Operations Area Project, Proposes to Expand Current Mining Operations at several Existing Pits, Rock Disposal Areas, Heap Leach Pads, Processing Facilities, and Interpit Area, Combining the Bald Mountain Mine Plan of Operations Boundary and the Mooney Basin Operation Area Boundary, White Pine County, NV.

Summary: EPA continues to have environmental concerns about ground and surface water impacts from contaminated leachate. EPA requested that the ROD include an Adaptive Waste Rock Management Plan and a Water Monitoring and Mitigation Plan.

EIS No. 20090409, ERP No. F-FHW-K40264-CA, Partially Revised Tier 1—Placer Parkway Corridor Preservation Project, Select and Preserve a Corridor for the Future Construction from CA-70/99 to CA 65, Placer and Sutter Counties, CA.

Summary: EPA continues to have environmental concerns about hydrology, floodplain, and air quality impacts.

EIS No. 20090412, ERP No. F-AFS-K65358-CA, Stanislaus National Forest Motorized Travel Management (17305) Plan, Implementation, Stanislaus National Forest, CA.

Summary: EPA continues to have environmental concerns about the travel management planning process, the conversion of closed routes to open, and the enforceability of the new transportation system. In addition, EPA is also concerned that the decision to eliminate wet weather closures and reduce season-of-use limitations would impact forest resources.

EIS No. 20090413, ERP No. F-AFS-K65353-NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV.

Summary: EPA's previous concerns have been resolved; therefore, EPA does not object to the proposed action.

EIS No. 20090431, ERP No. F-FHW-H40195-MO, East Columbia Transportation Project, To Improve the Transportation Network in Eastern Columbia/Boone County by: (1) Extending Route 740 from its Terminus at US-63, along a new Alignment, to I-70 at the existing St. Charles Road Interchange, (2) Improving existing Broadway (Route WW) to Olivet Road and (3) Extending Ballenger Lane, from Future Route 740 to Clark Lane, City of Columbia, Boone County, MO.

Summary: EPA does not object to the proposed project.

Dated: January 19, 2010.
Robert W. Hargrove,
Director, NEPA Compliance Division, Office of Federal Activities.

[FR Doc. 2010-1193 Filed 1-21-10; 8:45 am]

BILLING CODE 6560-50-P